DEPARTMENT OF AGRICULTURE

Forest Service

Spruce Beetle Epidemic and Aspen Decline Management Response; Grand Mesa, Uncompahgre and Gunnison National Forests (GMUG), Colorado

AGENCY: Forest Service, USDA.

ACTION: Notice of intent to prepare an environmental impact statement.

SUMMARY: A large portion of the Grand Mesa, Uncompahgre and Gunnison National Forests (GMUG) has experienced mortality from insects and diseases over the past decade. The purpose of the project is to proactively and adaptively respond to declining forest vegetation conditions. The approach is to actively manage vegetation consistent with the goals outlined in the Western Bark Beetle Strategy (July 2011) including: Promoting recovery from the insect outbreak, improving the resiliency of green stands to future disturbances and providing for human safety. Treatments would be carried out on National Forest System (NFS) Lands within the scope of direction provided in the GMUG Revised Land and Resource Management Plan.

DATES: To be most helpful, comments concerning the scope of the analysis should be received by August 30, 2013. The draft environmental impact statement is expected to be released in during the summer of 2014. Following publication of the availability of the draft environmental impact statement, there will be a 45-day comment period. Only individuals and entities making specific written comments (defined in 36 CFR 218.2) within either official comment period may file objections under 36 CFR 218 Subparts A and B. The final environmental impact statement and draft record of decision is expected to be released in winter 2015.

ADDRESSES: Send written comments to Scott Armentrout, Forest Supervisor, 2250 Highway 50, Delta, CO 81416. Comments may be sent via facsimile to 970-874-6698. Comments may also be sent via email to scottwilliams@fs.fed.us, with “SBEADMR Project” in the subject line. Electronic comments must be submitted in Word (.doc or docx.), Rich Text (.rtf), or Adobe Acrobat (.pdf) format.

FOR FURTHER INFORMATION CONTACT: Scott Williams, Project Team Leader, USDA Forest Service, P.O. Box 6, Kernville, CA 93238, phone (760) 383-7371, or email at scottwilliams@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action

Across the GMUG, approximately 140,000 acres of spruce-fir and 145,000 acres of aspen forests have experienced substantial mortality from insects and diseases over the past decade. Impacts have rapidly increased in recent years. Based upon patterns of bark beetle kill that have occurred on adjacent Forests, the GMUG expects rapidly increasing mortality. Once attacked by beetles, most trees typically die and eventually fall to the ground, adding dead and dry fuels that increases wildfire hazard.

The purpose of the project is to treat affected stands, improve the resiliency of stands at risk of these large-scale epidemics and reduce the safety threats of falling, dead trees and large-scale wildfires.

The GMUG is located in Colorado on the western slope of the Rockies and into the Colorado Plateau. It covers 3,161,900 acres across diverse vegetation ranging from sagebrush, piñon, juniper and ponderosa pine to Engelmann spruce, subalpine fir, and quaking aspen. Tree ring records and recent weather data indicate that the past decade has been the hottest and driest in centuries. This climate pattern, together with disturbance such as windthrow and vast landscapes of susceptible forest, are supporting huge outbreaks (Dendroctonus rufipennis) across the landscape.

Spruce beetles prefer large diameter trees, but will attack smaller trees once most of the larger trees are exhausted within a stand. Beetle outbreaks commonly occur following windthrow events. The ongoing massive spruce beetle outbreak on the San Juan and Rio Grande National Forests for over a decade is now spilling over the Continental Divide and is impacting large portions of the GMUG. Based on aerial survey data from 2012, approximately 311,000 acres of spruce beetle activity were identified in Colorado. Approximately 85,000 of that occurred on the GMUG. Current spruce beetle activity on the GMUG was initiated by windthrow events on the Grand Mesa National Forest, as well as other centers initiated by smaller, localized windthrow events on the Uncompahgre and Gunnison National Forests.

During roughly the same time frame as the growth in the spruce beetle epidemic, aspen dieback and mortality has occurred on a larger scale than previously experienced. Although stand-level episodes of aspen mortality have always occurred, occasionally clustered in time, the speed, pattern, severity, landscape scale, and causes of the mortality in the middle of the last decade were so novel that it was described as a new disease, Sudden Aspen Decline (SAD). Aspen in drier locations are more at risk. The recent hot and dry climatic pattern in conjunction with insects and disease have led to 1,215,000 acres of SAD in Colorado and 238,000 acres of SAD on the GMUG from 2000-2010. Expected future climatic conditions for this area include recurring drought and high summer temperatures which exacerbate SAD.

Proposed Action

The primary tools for reducing tree mortality, safety threats and fire hazard in stands already experiencing beetle-induced mortality will be the removal of dead and dying trees. In stands which are threatened by the beetle outbreak, forest resiliency will be improved by reducing stand densities by promoting multi-storied stand structure. Pheromone spray treatments may be used in high value areas. Aspen stands where less than 50% of the root system has been affected by decline would be candidates for aspen regeneration treatments. A map showing areas proposed for treatment is available at: http://www.fs.usda.gov/goto/SSAMap.

The project is consistent with management direction identified in the amended GMUG National Forest Land and Resource Management Plan (Forest Plan) (1983, amended 1991, 1993, 2008, and 2012). This proposed action responds to goals and objectives described in the Forest Plan and moves the project area towards desired conditions (Forest Plan, 1991, pages III-1 through III-5). Specifically, the Forest Plan goal for vegetation is to “manage vegetation in a manner to provide and maintain a healthy and vigorous ecosystem resistant to insects, diseases and other natural and human causes.

Based on these conditions and Forest Plan direction, the need for this project is to manage forest vegetation to bring current and foreseeable conditions (i.e., with no action) closer to desired conditions on landscapes available for active management.

This project is unique because of its adaptive and integrated approach to where and what actions will be applied to the landscape. The project will define opportunity areas available for treatments, priorities for treatment, parameters and design features, operating protocols, monitoring, and activity tracking. Both commercial harvest and non-commercial treatments (mechanical and prescribed fire) may be appropriate management tools for use in 250,000 to 350,000 acres. Approximately 118,000 acres of spruce-fir and 140,000 acres of aspen would be analyzed for potential commercial and non-commercial treatments. An additional 60,000 acres of aspen outside of lynx habitat would be analyzed for recovery and resiliency treatments. Focus areas for hazard mitigation include removal of dead and dying trees posing a risk to open roads (approximately 1,600 miles); in and around campgrounds or other administrative facilities (approximately 160 facilities); within ski areas boundaries (12,000 acres within Telluride, Crested Butte and Powderhorn ski areas) and within Western Area Power Administration (WAPA) and Tri-State power transmission lines right-of-way and border zones. Other priority treatment areas may be identified through the analysis and public involvement process. This area totals approximately twenty percent of these cover types across the GMUG.

We estimate a range of 4,000 to 6,000 acres of commercial harvest treatments would occur annually, or a total 40,000 to 60,000 acres over the life of the 10-year project. Another 3,000 to 6,000 acres of non-commercial (mechanical and prescribed fire) treatments could also occur should funding be available. Opportunities to use prescribed fire to meet treatment objectives will also be explored. Areas that are difficult to access and/or have slopes exceeding 35% will not be mechanically treated. This project proposes no mechanical treatments within administratively restricted areas such as Colorado Roadless Areas (CRAs), Research Natural Areas or Special Management Areas managed for Wilderness values.

The approach is to actively manage vegetation consistent with the goals outlined in the Western Bark Beetle Strategy (July 2011, available at: http://www.fs.fed.us/publications/bark-beetle/bark-beetle-strategy-appendices.pdf_) including, promoting recovery from the insect outbreak, improving the resiliency of green stands to future disturbances and providing for human safety. These general goals will be adapted to local landscapes where treatments are needed based on governing management direction, foreseeable conditions and local environment, social and economic concerns.

Recovery—An adaptive management treatment approach would include a spectrum of dead and dying tree removal based on extent of tree mortality. Commercial harvest would provide the ability to fund reforestation. Tree planting would follow removal of dead and dying trees and fuels treatments where adequate seed sources are lacking.

Resiliency—Treatments in live stands would increase age class and tree species diversity to create multi-storied stand conditions of spruce-fir and healthy clones of aspen. Removal of single trees or group selections of live trees where bark beetle impacts are light to reduce inter-tree competition and create multi-storied stand conditions. Creating tree age-class and structural diversity across the landscape would also improve overall forest resilience. The primary goal of treatments in spruce-fir is to create/perpetuate a multi-age stand in accordance with the Southern Rockies Lynx Forest Plan Amendment. Treatments in aspen would center on those areas where science and experience have shown successful stand regeneration is most likely, typically in areas of light to moderate decline, or approximately 50% of stand root system impacted.

Human Safety—Trees have died in many areas, some near people and infrastructure, some remote. Dead trees pose a hazard where they have potential to injure or kill people, or to damage property, if they fall. Dead trees along roads and trails could block ingress/egress during emergency operations, such as during wildfire suppression operations. Falling trees can also damage power transmission lines, which can cause wildfires or power disruption to thousands of people. Falling tree hazards continue to increase the longer dead trees remain standing. Hazard tree mitigation treatments would help protect people and community infrastructure from the risk of falling bark trees. Wood products removed in all operations would be used to meet the growing needs of local industry and to provide substantial economic benefits to communities. These activities would be planned where existing strategic plans, laws and policy indicate they are appropriate, and where forest system roads are adequate to meet the needs of access and product removal. Some temporary road construction would likely be needed.

Project Design Features—Each mechanical or prescribed fire treatment would include design features to protect the environment or mitigate affects. Design criteria to be used under specific on-the-ground conditions will be developed as part of the EIS. Some examples include:

• Cultural resource survey and avoidance of important sites if found.

• Best Management Practices for preventing soil erosion, sedimentation, or rutting to protect water quality.

• Validation of treatments by a certified silviculturist who ensures forest health is maintained in the long term.

• Practices to minimize potential spread of non-native invasive species and treatment of high priority populations when found. Practices to minimize effects to threatened, endangered or sensitive wildlife or plant species which may include adjustments to project timing, pre-work surveys in potential habitat, avoiding activities in certain locations, maintaining key parts of the habitat (snags, cavities, rock outcrops are examples), and avoidance of live advanced regeneration in the understory.

• Safety items such as alerting the public of activities, signing roads, ensuring equipment meets operational standards and oversight by Forest Service staff.

Since the decision will be implemented using an adaptive management process, the use of monitoring results to advise Forest Service managers is critical to success of the project. Basic steps used in the adaptive management process are:

• An interdisciplinary team (IDT) will be used to complete all required surveys for a particular project area, complete required layout and marking to the stand, decide the appropriate design features to be applied, and determine how best to implement required monitoring. A project “checklist” documenting compliance with requirements of the EIS will be completed. Members of the IDT will sign the checklist documenting compliance.

• Projects will be implemented through timbersale contracts or other appropriate mechanisms. Forest Service employees (e.g. sale adminstrators) will oversee provision of the contract to ensure compliance.

• During and following implementation of vegetation treatment project, monitoring required by the EIS will be completed. Findings will be summarized in an annual monitoring report that will be posted on the Forest Web site and utilized to inform Forest Service Managers.

• Forest Service Managers incorporate “key findings” into design of future vegetation treatments within bounds of the EIS decision.

Possible Alternatives

The No Action alternative would not authorize any actions on the project area at this time. Other alternatives may be developed in response to public comments.

Lead and Cooperating Agencies

No cooperating agencies have been identified.

Responsible Official

Scott Armentrout, Forest Supervisor, Grand Mesa, Uncompahgre and Gunnison National Forests is the Responsible Official.

Nature of Decision To Be Made

After considering the proposed action and any alternatives, the environmental analysis, and public comment, the Forest Supervisor will decide whether to conduct treatments to remove dead and dying trees, treat fuels, reforest trees, reduce and slow the progress of the beetle epidemic, and promote regeneration of aspen stands. If an action alternative is selected, the Forest Supervisor will decide where treatments may occur, and what actions are appropriate and may be taken. Finally, the decision will include the scope of monitoring that should occur. No Forest Plan amendment is proposed.

Scoping Process

This notice of intent initiates the scoping process, which guides the development of the environmental impact statement. It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action. Comments submitted anonymously will be accepted and considered, however.

Objection Process

Only those individuals and entities should submit timely and specific written comments (36 CFR 218.2) during official comment periods may file objections during the objection period, which will follow publication of the final environmental impact statement and draft record of decision. Objections filed according to the conditions in 36 CFR 218 Subparts A and B will be reviewed by a Reviewing Officer, who will submit a written response to objections. The final record of decision will be issued only after all the concerns and instructions identified by the reviewing officer have been addressed.

Dated: July 25, 2013.
Scott G. Armentrout,
Forest Supervisor.

[FR Doc. 2013-18361 Filed 7-30-13; 8:45 am]

BILLING CODE 3410-11-P